DEPARTMENT OF STATE

[Public Notice 8531]

Determination Under the Foreign Operations, and Related Programs Appropriations Act

Determination Pursuant to Section 7041(a)(1)(C) of the Department of State, Foreign Operations, and Related Programs Appropriations Act, 2012 (DIV. I, Pub. L. 112-74) as Carried Forward by the Full Year Continuing Appropriations Act, 2013 (DIV. F, Pub. L. 113-6)

Pursuant to section 7041(a)(1)(C) of the Department of State, Foreign Operations, and Related Programs Appropriations Act, 2012 (Div. I, Pub. L. 112-74) (“the Act”), as carried forward by the Full Year Continuing Appropriations Act, 2013 (Div. F, Pub. L. 113-6), I hereby determine that it is in the national security interest of the United States to waive the requirements of section 7041(a)(1)(B) of the Act, which concern the provision of Foreign Military Financing for Egypt, and I hereby waive these requirements.

This determination shall be published in the Federal Register and, along with the accompanying Memorandum of Justification, shall be reported to Congress.

Dated: May 9, 2013.
John F. Kerry,
Secretary of State.

Editorial Note: This document arrived at the Federal Register on November 20, 2013.

[FR Doc. 2013-28214 Filed 11-26-13; 8:45 am]

BILLING CODE 4710-31-P